DEPARTMENT OF ENERGY

Federal Energy Regulatory Commission

[Docket No. EC01-135-000, et al.]

Wisconsin Public Service Corporation, et al.: Electric Rate and Corporate Regulation Filings

August 9, 2001.

Take notice that the following filings have been made with the Commission:

1. Wisconsin Public Service Corporation

[Docket No. EC01-135-000]

Take notice that on August 2, 2001, Wisconsin Public Service Corporation (WPSC) filed an application under Section 203 of the Federal Power Act for an order authorizing it to extend for six years a lease of a feeder bay and related facilities (designated as Feeder 241) to the Eagle River Light & Water Utility (Eagle River). These facilities are located in and near the Cranberry Substation. The Commission previously approved the base lease agreement in Docket No. EC96-3-000.

WPSC states that copies of this application were served on Eagle River, the Public Service Commission of Wisconsin, the Michigan Public Service Commission and Wisconsin Public Power, Inc.

Comment date: August 22, 2001, in accordance with Standard Paragraph E at the end of this notice.

2. Ridge Crest Wind Partners, LLC

[Docket No. EG01-276-000]

On August 2, 2001, Ridge Crest Wind Partners, LLC, 139 East Fourth Street, Cincinnati, Ohio 45202 filed with the Federal Energy Regulatory Commission an application for determination of exempt wholesale generator status pursuant to Part 365 of the Commission's regulations.

Ridge Crest Wind Partners, LLC, is a Delaware limited liability company that is building, for ownership and operation, an approximately 30-megawatt wind generation facility, comprised of thirty-three (33) NEG Micon 900 KW wind turbines utilizing fifty-two (52) meter rotor diameters and seventy-two (72) meter hub height tubular towers (“the Facility”). The Facility is located on the Peetz Table Mesa in Logan County, Colorado. Ridge Crest Wind Partners, LLC is engaged directly and exclusively in the business of owning and operating all or part of one or more eligible facilities and selling electric energy at wholesale.

Comment date: August 29, 2001, in accordance with Standard Paragraph E at the end of this notice. The Commission will limit its consideration of comments to those that concern the adequacy or accuracy of the application.

3. Idaho Power Company

[Docket No. ER01-1687-002]

Take notice that on August 2, 2001, Idaho Power Company tendered for filing, under its Market-Based Rates Tariff, amended Rate Schedule Designations as required by Order No. 614 pursuant to the Commission's Letter Order dated May 29, 2001 in the above-captioned docket.

Comment date: August 22, 2001, in accordance with Standard Paragraph E at the end of this notice.

4. Somerset Windpower LLC

[Docket No. ER01-2139-001]

Take notice that on August 2, 2001, Somerset Windpower LLC (Somerset) tendered for filing a Revision to Attachment A to Somerset's application for an order authorizing market-based rates under Section 205(a) of the Federal Power Act, 16 U.S.C. 824d(a); for granting of certain blanket approvals and for the waiver of certain Commission regulations. Somerset is a limited liability company that proposes to engaged in the wholesale sale of electric power in the state of Pennsylvania.

Comment date: August 22, 2001, in accordance with Standard Paragraph E at the end of this notice.

5. Sunrise Power Company, LLC

[Docket No. ER01-2217-001]

On August 2, 2001, Sunrise Power Company LLC (Seller) filed an amendment to its electric rate tariff in compliance with the order of the Federal Energy Regulatory Commission (Commission) issued on July 25, 2001, in the above-captioned docket.

Comment date: August 22, 2001, in accordance with Standard Paragraph E at the end of this notice.

6. PSEG Fossil LLC, PSEG Nuclear LLC, PSEG Energy Resources & Trade LLC

[Docket No. ER01-2462-001]

Take notice that on July 10, 2001, Joint Application of PSEG Fossil LLC, PSEG Nuclear LLC and PSEG Energy Resources & Trade LLC (the Applicants) tendered for filing to clarify that the waivers being sought would pertain to the calendar year 2000 and subsequent years.

Comment date: August 23, 2001, in accordance with Standard Paragraph E at the end of this notice.

7. PacifiCorp

[Docket No. ER01-2501-001]

Take notice that PacifiCorp, on August 2, 2001, tendered for filing signature pages evidencing the execution of Amendatory Agreement No. 5, to the Pacific Northwest Coordination Agreement dated September 15, 1964.

PacifiCorp states that the supplemental filing of these signature pages was made in support of PacifiCorp's filing of Amendatory Agreement No. 5 as a Change of Rate Schedule. Amendatory Agreement No. 5 modifies the primary agreement to change agreement terms and conditions regarding: The City of Tacoma's withdrawal of its west-side hydroelectric projects from the primary agreement; the rate charged for interchange energy transactions; and the methods of accounting for interchange energy transactions.

Comment date: August 22, 2001, in accordance with Standard Paragraph E at the end of this notice.

8. Southern California Edison Company

[Docket No. ER01-2751-000]

Take notice, that on August 2, 2001, Southern California Edison Company (SCE) tendered for filing an Interconnection Facilities Agreement between SCE and the Mountainview Power Company L.L.C. (Mountainview). This agreement specifies the terms and conditions pursuant to which SCE will interconnect 1132 MW of generation to the California Independent System Operator Controlled Grid pursuant to SCE's Transmission Owner Tariff, FERC Electric Tariff, First Revised Original Volume No. 6. Copies of this filing were served upon the Public Utilities Commission of the State of California and Mountainview.

SCE requests that this agreement become effective on August 3, 2001.

Comment date: August 22, 2001, in accordance with Standard Paragraph E at the end of this notice.

9. Western Resources, Inc.

[Docket No. ER01-2752-000]

Take notice that on August 2, 2001, Western Resources, Inc. (WR) tendered for filing a separate Master Power Purchase and Sale Agreement between WR and Tenaska Power Services Co., American Electric Power Services Corp. and Southern Company Energy Marketing L.P. (Customers). WR states that the purpose of these agreements is to permit the Customers to take service under WR's Market Based Power Sales Tariff on file with the Commission. This agreement is proposed to be effective August 1, 2001.

Copies of the filing were served upon the Customers and the Kansas Corporation Commission.

Comment date: August 22, 2001, in accordance with Standard Paragraph E at the end of this notice.

10. Ridge Crest Wind Partners, LLC

[Docket No. ER01-2760-000]

On August 2, 2001, Ridge Crest Wind Partners, LLC, of 139 East Fourth Street, Cincinnati, Ohio 45202 filed with the Federal Energy Regulatory Commission an application for market-based rate authorization, waivers and exemptions and a request for an effective date of September 16, 2001 for its market-based rate authorization.

Ridge Crest Wind Partners, LLC, is a Delaware limited liability company that is building, for ownership and operation, an approximately 26-megawatt wind generation facility, comprised of thirty-three (33) NEG Micon 900 KW wind turbines utilizing fifty-two (52) meter rotor diameters and seventy-two (72) meter hub tubular towers (the Facility). The Facility is located on the Peetz Table Mesa in Logan County, Colorado. Ridge Crest Wind Partners, LLC, is seeking market-based rate authorization, waivers and exemptions, and a request for an effective date of September 16, 2000 for its market-based rate authorization in order to sell the output of the Facility to the Public Service Company of Colorado.

Comment date: August 22, 2001, in accordance with Standard Paragraph E at the end of this notice.

11. Ocean State Power

[Docket No. ER01-2766-000]

Take notice that on August 2, 2001, Ocean State Power (Ocean State) tendered for filing revised pages to its initial rate schedules, which continue in effect existing adjustments to the Annual Capacity Charge for Unit Availability, Rate Schedules FERC Nos. 1-4. Ocean State requests an effective date for the rate schedule changes of August 3, 2001.

Copies of the Supplements have been served upon, among others, Ocean State's power purchasers, the Massachusetts Department of Public Utilities, and the Rhode Island Public Utilities Commission.

Comment date: August 22, 2001, in accordance with Standard Paragraph E at the end of this notice.

12. Ocean State Power II

[Docket No. ER01-2767-000]

Take notice that on August 2, 2001, Ocean State Power II (Ocean State II) tendered for filing revised pages to its initial rate schedules, which continue in effect existing adjustments to the Annual Capacity Charge for Unit Availability, Rate Schedules FERC Nos. 5-8. Ocean State II requests an effective date for the rate schedule changes of August 3, 2001.

Copies of the Supplements have been served upon, among others, Ocean State II's power purchasers, the Massachusetts Department of Public Utilities, and the Rhode Island Public Utilities Commission.

Comment date: August 22, 2001, in accordance with Standard Paragraph E at the end of this notice.

13. Progress Energy, Inc. on behalf of Carolina Power & Light Company

[Docket No. ER01-2775-000]

Take notice that on August 2, 2001, Carolina Power & Light Company (CP&L) tendered for filing Service Agreements for Short-Term Firm and Non-Firm Point-to-Point Transmission Service with Calpine Energy Services, L.P. Service to this Eligible Customer will be in accordance with the terms and conditions of the Open Access Transmission Tariff filed on behalf of CP&L. Copies of the filing were served upon the North Carolina Utilities Commission and the South Carolina Public Service Commission.

CP&L is requesting an effective date of July 31, 2001 for the Service Agreements.

Comment date: August 22, 2001, in accordance with Standard Paragraph E at the end of this notice.

14. Exelon Generation Company, LLC

[Docket No. ER01-2776-000]

Take notice that on August 2, 2001, Exelon Generation Company, LLC (Exelon Generation) submitted for filing with the Federal Energy Regulatory Commission (FERC or the Commission) a service agreement for wholesale power sales transactions between Exelon Generation and City of Austin, Texas d/b/a Austin Energy under Exelon Generation's wholesale power sales tariff, FERC Electric Tariff, Original Volume No. 1.

Comment date: August 22, 2001, in accordance with Standard Paragraph E at the end of this notice.

15. Exelon Generation Company, LLC

[Docket No. ER01-2777-000]

Take notice that on August 2, 2001, Exelon Generation Company, LLC (Exelon Generation) submitted for filing with the Federal Energy Regulatory Commission (FERC or the Commission) a service agreement for wholesale power sales transactions between Exelon Generation and Nicor Energy, L.L.C. under Exelon Generation's wholesale power sales tariff, FERC Electric Tariff, Original Volume No. 1.

Comment date: August 22, 2001, in accordance with Standard Paragraph E at the end of this notice.

16. Northern Indiana Public Service Company

[Docket No. ER01-2778-000]

Take notice that on August 2, 2001, Northern Indiana Public Service Company (Northern Indiana) filed a Service Agreement pursuant to its Wholesale Market-Based Rate Tariff with The Detroit Edison Company (Detroit Edison). Under the Service Agreement, Northern Indiana may provide service under its Wholesale Market-Based Rate Tariff. Northern Indiana has requested an effective date of July 3, 2001.

Copies of this filing have been sent to Detroit Edison, the Indiana Utility Regulatory Commission, and the Indiana Office of Utility Consumer Counselor.

Comment date: August 22, 2001, in accordance with Standard Paragraph E at the end of this notice.

17. Virginia Electric and Power Company

[Docket No. ER01-2779-000]

Take notice that on August 2, 2001, Virginia Electric and Power Company (Dominion Virginia Power or the Company) tendered for filing the Service Agreement for Firm Point-to-Point Transmission Service by Virginia Electric and Power Company to Exelon Generation Company, LLC designated as Service Agreement No. 320 under the Company's FERC Electric Tariff, Second Revised Volume No. 5; and the Service Agreement for Non-Firm Point-to-Point Transmission Service by Virginia Electric and Power Company to Exelon Generation Company, LLC designated as Service Agreement No. 321 under the Company's FERC Electric Tariff, Second Revised Volume No. 5.

The foregoing Service Agreements are tendered for filing under the Open Access Transmission Tariff to Eligible Purchasers effective June 7, 2000. Under the tendered Service Agreements, Dominion Virginia Power will provide point-to-point service to Exelon Generation Company, LLC under the rates, terms and conditions of the Open Access Transmission Tariff. Dominion Virginia Power requests an effective date of September 1, 2001, as requested by the customer.

Copies of the filing were served upon Exelon Generation Company, LLC, the Virginia State Corporation Commission, and the North Carolina Utilities Commission.

Comment date: August 22, 2001, in accordance with Standard Paragraph E at the end of this notice.

18. ARCO, a subsidiary of BP America, Inc. Complainant, v. Calnev Pipe Line LLC, Respondent.

[Docket No.OR01-8-000]

On August 8, 2001, ARCO, a subsidiary of BP America, Inc. (hereinafter referred to as Complainant) filed a complaint alleging that there are reasonable grounds to believe that the rates of Calnev Pipe Line LLC subject to the jurisdiction of the Federal Energy Regulatory Commission are not just and reasonable.

According to Complainant, the overcharges are 22.8 percent in excess of the claimed just and reasonable return claimed by Calnev in its year 2000 interstate cost of service.

Complainant further alleges that the rates are not subject to the threshold “changed circumstances” standard pursuant to the Energy Policy Act of 1992.

Complainant alleges that it is aggrieved and damaged by the unlawful acts of Calnev Pipe Line LLC and seeks relief in the form of reduced rates in the future and reparations for past and current overcharges for transportation and terminalling, with interest.

Comment date: August 21, 2001, in accordance with Standard Paragraph E at the end of this notice. Answers to the complaint shall also be due on or before August 21, 2001.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-20606 Filed 8-15-01; 8:45 am]

BILLING CODE 6717-01-P